DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 23, 2017.

ADDRESSES: Address Comments To: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC or at http://regulations.gov.

This notice of receipt of applications for special permit is published in accordance with Part 107 of the Federal hazardous materials transportation law (49 U.S.C. 5117(b); 49 CFR 1.53(b)).

Issued in Washington, DC, on December 6, 2016.
Donald Burger,
Chief, Office of the Special Permits and Approvals.

Application No. | Docket No. | Applicant | Regulation(s) affected | Nature of the special permits thereof
Special Permits Data
20367-N |  | Keith Huber Corporation | 178.345-8(b)(1), 178.345-8(d)(1) | To authorize the transportation in commerce of non-DOT specification cargo tank motor vehicles. (mode 1).
20370-N |  | American Honda Motor Co., Inc | 173.301(a)(1) | To authorize the transportation in commerce of hydrogen, compressed in non-DOT specification carbon fiber composite tanks. (modes 1, 2, 3, 4)
20374-N |  | Scana Corporation | 173.403, 173.427(b), 173.465(c), 173.465(d) | To authorize the transportation in commerce of SCO-II material which has fixed and non-fixed contamination levels on the inaccessible surface area in excess of that authorized. (mode 1)
20375-N |  | Department of Defense (Military Surface Deployment & Distribution Command) | 173.302(a), 173.304(a) | To authorize the transportation of certain hazardous materials in non-DOT specification cylinders. (modes 1, 2, 3, 4)
20377-N |  | CYTEC Industries Inc | 172.201, 172.400, 172.301, 173.213 | To authorize the transportation in commerce of phosphorous in reportable quantities without being subject to the requirements of the HMR. (modes 1, 4)
20378-N |  | LG Chem | 172.101(j) | To authorize the transportation in commerce of lithium batteries by cargo-only aircraft in excess of 35 kg net weight. (mode 4)

[FR Doc. 2016-30574 Filed 12-21-16; 8:45 am]

BILLING CODE 4909-60-M